ANTITRUST MODERNIZATION COMMISSION

Notice of Public Hearings

AGENCY: Antitrust Modernization Commission.

ACTION: Notice of public hearings.

SUMMARY: The Antitrust Modernization Commission will hold public hearings on October 26 and November 3, 2005. The topics of the hearings are State Antitrust Enforcement, Criminal Remedies, and Dual Federal Antitrust Enforcement.

DATES: October 26, 2005, 1:30 p.m. to 4 p.m. November 3, 2005, 9:30 to 11:30 a.m. and 1:15 to 4:30 p.m. Interested members of the public may attend. Registration is not required.

ADDRESSES: October 26: Federal Trade Commission, Headquarters Room 432, 600 Pennsylvania Avenue, NW., Washington, DC, November 3: Federal Trade Commission, Conference Center, 601 New Jersey Avenue, NW., Washington, DC.

FOR FURTHER INFORMATION CONTACT: Andrew J. Heimert, Executive Director & General Counsel, Antitrust Modernization Commission: telephone: (202) 233-0701; e-mail: info@amc.gov. Mr. Heimert is also the Designated Federal Officer (DFO) for the Antitrust Modernization Commission.

SUPPLEMENTARY INFORMATION: The purpose of these hearings is for the Antitrust Modernization Commission to take testimony and receive evidence regarding State Antitrust Enforcement, Criminal Remedies, and Dual Federal Antitrust Enforcement. The hearing on State Antitrust Enforcement will consist of one panel. It will be held on October 26, 2005, and will begin at 1:30 p.m. and conclude at 4 p.m. The hearing on Criminal Remedies will consist of one panel. It will be held on November 3, 2005, and will begin at 9:30 a.m. and conclude at 11:30 a.m. The hearing on Dual Federal Antitrust Enforcement will consist of two panels, taking place on November 3, 2005. The first panel will begin at 1:15 p.m. and run until 2:45 p.m. The second panel will run from 3 p.m. to 4:30 p.m. Materials relating to the hearings, including lists of witnesses and the prepared statements of the witnesses, will be made available on the Commission's Web site (www.amc.gov) in advance of the hearings.

Interested members of the public may submit written testimony on the subject of the hearing in the form of comments, pursuant to the Commission's request for comments. See 70 Fed. Reg. 28,902 (May 19, 2005). Members of the public will not be provided with an opportunity to make oral remarks at the hearings.

The AMC is holding this hearing pursuant to its authorizing statute. Antitrust Modernization Commission Act of 2002, Pub. L. No. 107-273, 11057(a), 116 Stat. 1758, 1858.

Dated: October 4, 2005.
By direction of the Antitrust Modernization Commission.
Andrew J. Heimert,
Executive Director & General Counsel, Antitrust Modernization Commission.

[FR Doc. 05-20368 Filed 10-11-05; 8:45 am]

BILLING CODE 6820-YH-P